DEPARTMENT OF THE DEFENSE

Office of the Secretary

Missile Defense Advisory Committee (MDAC)

AGENCY: Missile Defense Agency (MDA).

ACTION: Notice of closed meeting.

SUMMARY: The Missile Defense Advisory Committee will meet in closed session on September 18-19, 2006, in Washington, DC.

The mission of the Missile Defense Advisory Committee is to provide the Department of Defense advice on all matters relating to missile defense, including system development, technology, program maturity and readiness of configurations of the Ballistic Missile Defense System (BMDS) to enter the acquisition process. At this meeting, the Committee will conduct classified discussions on capability-based acquisition.

FOR FURTHER INFORMATION CONTACT: COL David R. Wolf, Designated Federal Official (DFO) at david.wolf@mda.mil, phone/voice mail (703) 695-6438, or mail at 7100 Defense Pentagon, Washington, DC 20301-7100.

SUPPLEMENTARY INFORMATION: In accordance with Section 10(d) of the Federal Advisory Committee Act, Public Law 92-463, as amended (5 U.S.C. App II), it has been determined that this Missile Defense Advisory Committee meeting concerns matters listed in 5 U.S.C. 552b(c)(1) and that, accordingly, the meeting will be closed to the public.

The need to conduct this meeting was identified with less than 15 calendar days prior to the schedule date. As a result, the meeting notice is being published with less than 15 calendar days notice.

Dated: September 8, 2006.
C.R. Choate,
Alternate OSD Federal Register Liaison Office, Department of Defense.

[FR Doc. 06-7648 Filed 9-13-06; 8:45 am]

BILLING CODE 5001-06-M